DEPARTMENT OF THE INTERIOR

Bureau of Land Management

[19X.LLUTW01000.L14400000.ET0000, UTU-78501]

Public Land Order No. 7887; Extension of Public Land Order No. 7422, Diamond Fork System, Bonneville Unit of the Central Utah Project; Utah

AGENCY: Bureau of Land Management, Interior.

ACTION: Public land order.

SUMMARY: This Public Land Order (PLO) extends the duration of the withdrawal created by PLO No. 7422 for an additional 20-year term. PLO No. 7422 would otherwise expire on December 20, 2019. This extension is necessary to prevent incompatible uses from affecting the operation of the Diamond Fork System of the Central Utah Project, which supports Utah's use of Colorado River water for irrigation, municipal and industrial needs, hydroelectric power, conservation, and recreation. PLO No. 7422 withdrew approximately 2,795 acres of National Forest System lands from location and entry under the United States mining laws, but not from leasing under the mineral leasing laws. This Order corrects the acreage withdrawn from 2,795 acres to 2,714.22 acres with no change to the legal land description. The lands have been and will remain open to mineral leasing.

DATES: This PLO takes effect on December 21, 2019.

FOR FURTHER INFORMATION CONTACT: Allison Ginn, Assistant Field Manager, BLM Salt Lake Field Office, 801-977-4300, or by email utslmail@blm.gov. Persons who use a telecommunications device for the deaf (TDD) may call the Federal Relay Service (FRS) at 1-800-877-8339 to reach the individual above. The FRS is available 24 hour a day, 7 days a week, to leave a message or question with the above individual. You will receive a reply during normal business hours.

SUPPLEMENTARY INFORMATION: This Order extends the existing withdrawal to prevent incompatible uses from affecting the operation of the Diamond Fork System of the Central Utah Project, which supports Utah's use of Colorado River water for irrigation, municipal and industrial needs, hydroelectric power, conservation, and recreation.

Order

By virtue of the authority vested in the Secretary of the Interior by Section 204 of the Federal Land Policy and Management Act of 1976, 43 U.S.C. 1714, it is ordered as follows:

1. Subject to valid existing rights, PLO No. 7422, (64 FR 71467, (1999)), which withdrew National Forest System lands from location and entry under the United States mining laws, but not from leasing under the mineral leasing laws, is hereby extended for an additional 20-year period to prevent incompatible uses from affecting the operation of the Diamond Fork System of the Central Utah Project.

2. The withdrawal extended by this Order will expire on December 20, 2039, unless as a result of a review conducted prior to the expiration date, pursuant to Section 204(f) of the Federal Land Policy and Management Act of 1976, 43 U.S.C. 1714(f), the Secretary determines that the withdrawal shall be further extended.

Dated: November 25, 2019.
Timothy R. Petty,
Assistant Secretary for Water and Science.

[FR Doc. 2019-26212 Filed 12-3-19; 8:45 am]

BILLING CODE 4310-HC-P